NUCLEAR REGULATORY COMMISSION

[NRC-2013-0079]

Qualification Tests for Safety-Related Actuators in Nuclear Power Plants

AGENCY: Nuclear Regulatory Commission.

ACTION: Revision to regulatory guide; issuance.

SUMMARY: The U.S. Nuclear Regulatory Commission (NRC) is issuing revision 1 to regulatory guide (RG) 1.73, “Qualification Tests for Safety-Related Actuators in Nuclear Power Plants.” This RG is being revised to provide applicants and licensees with the most current information on testing safety-related actuators in nuclear power plants. This RG is proposed Revision 1 of RG 1.73, “Qualification Tests of Electric Valve Operators Installed Inside the Containment of Nuclear Power Plants,” dated January 1974.

ADDRESSES: Please refer to Docket ID NRC-2011-0129 when contacting the NRC about the availability of information regarding this document. You may access publicly-available information related to this document using any of the following methods:

• Federal Rulemaking Web site: Go to http://www.regulations.gov and search for Docket ID NRC-2013-0079. Address questions about NRC dockets to Carol Gallagher; telephone: 301-287-3422; email: Carol.Gallagher@nrc.gov.

• NRC's Agencywide Documents Access and Management System (ADAMS): You may access publicly available documents online in the NRC Library at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced in this notice (if that document is available in ADAMS) is provided the first time that a document is referenced. Revision 1 of RG 1.73 is available in ADAMS under Accession No. ML13210A463. The regulatory analysis may be found in ADAMS under Accession No. ML12219A400.

• NRC's PDR: You may examine for free or purchase copies of public documents at the NRC's PDR, Room O1-F21, One White Flint North, 11555 Rockville Pike, Rockville, Maryland 20852.

Regulatory guides are not copyrighted, and NRC approval is not required to reproduce them.

FOR FURTHER INFORMATION CONTACT: Darrell Murdock (email: Darrell.Murdock@nrc.gov) or Mark Orr (email: Mark.Orr@nrc.gov); telephone 301-415-7000, U.S. Nuclear Regulatory Commission, Washington, DC 20555 0001,

SUPPLEMENTARY INFORMATION:

I. Introduction

The NRC is issuing a revision to an existing guide in the NRC's “Regulatory Guide” series. This series was developed to describe and make available to the public such information as methods that are acceptable to the NRC staff for implementing specific parts of the NRC's regulations, techniques that the staff uses in evaluating specific problems or postulated accidents, and data that the staff needs in its review of applications for permits and licenses.

Revision 1 of RG 1.73 provides applicants and licensees with the most current information on testing safety-related actuators in nuclear power plants. The current version of RG 1.73, “Qualification Tests of Electric Valve Operators Installed Inside the Containment of Nuclear Power Plants” was issued January 1974. It endorses IEEE Std. 382-1972, “IEEE Trial-Use Guide for Type Test of Class I Electric Valve Operators for Nuclear Power Generating Stations.” The IEEE standard was updated three times, in 1985, 1996, and 2006. However, the RG has not been updated since 1974. This revision updates RG 1.73 to endorse the current version of IEEE Std. 382-2006, “Standard for Qualification of Safety-Related Actuators for

II. Additional Information

Revision 1 of RG 1.73 was issued for public comment as draft regulatory guide (DG)-1235, “Qualification Tests for Safety-Related Actuators in Nuclear Power Plants” on May 1, 2013, (78 FR 25488) for a 60 day public comment period. The public comment period closed on June 28, 2013 and 2 sets of comments were received. These comments resulted in revisions to the final RG. The comments and the NRC staff response are available in ADAMS at Accession No. ML13210A462.

III. Congressional Review Act

This RG is a rule as designated in the Congressional Review Act (5 U.S.C. 801-808). However, the Office of Management and Budget (OMB) has not found it to be a major rule as designated in the Congressional Review Act.

IV. Backfitting and Issue Finality

Issuance of this final RG does not constitute backfitting as defined in 10 CFR 50.109 (the Backfit Rule) and is not otherwise inconsistent with the issue finality provisions in 10 CFR part 52. As discussed in the “Implementation” section of this RG, the NRC has no current intention to impose this RG on holders of current operating licenses or combined licenses.

This RG may be applied to applications for operating licenses and combined licenses docketed by the NRC as of the date of issuance of the final RG, as well as future applications for operating licenses and combined licenses submitted after the issuance of the RG. Such action does not constitute backfitting as defined in 10 CFR 50.109(a)(1) or is otherwise inconsistent with the applicable issue finality provision in 10 CFR part 52, inasmuch as such applicants or potential applicants are not within the scope of entities protected by the Backfit Rule or the relevant issue finality provisions in part 52.

Dated at Rockville, Maryland, this 24th day of October 2013.
For the Nuclear Regulatory Commission.
Thomas H. Boyce,
Chief, Regulatory Guide Development Branch, Division of Engineering, Office of Nuclear Regulatory Research.

[FR Doc. 2013-26835 Filed 11-7-13; 8:45 am]

BILLING CODE 7590-01-P